FEDERAL COMMUNICATIONS COMMISSION

[Report no. 2560]

Petitions for Reconsideration of Action in Rulemaking Proceedings

July 3, 2002.

Petitions for Reconsideration have been filed in the Commission's rulemaking proceedings listed in this Public Notice and published pursuant to 47 CFR Section 1.429(e). The full text of this document is available for viewing and copying in Room CY-A257, 445 12th Street, SW., Washington, DC or may be purchased from the Commission's copy contractor, Qualex International (202) 863-2893. Oppositions to these petitions must be filed by July 31, 2002. See Section 1.4(b)(1) of the Commission's rules (47 CFR 1.4(b)(1)). Replies to an opposition must be filed within 10 days after the time of filing oppositions has expired.

Subject: Communications Assistance for Law Enforcement Act (CC Docket No. 97-213).

Number of Petitions Filed: 1.

Subject: In the Matter of Revision of Part 15 of the Commission's Rules Regarding Ultra-Wideband Transmission Systems (ET Docket No. 98-153).

Number of Petitions Filed: 16.

Subject: Amendment of the FM Table of Allotments (MM Docket No. 01-341, RM-10346).

Number of Petitions Filed: 1.

Marlene H. Dortch,
Secretary.

[FR Doc. 02-17826 Filed 7-15-02; 8:45 am]

BILLING CODE 6712-01-M